SECURITIES AND EXCHANGE COMMISSION

Submission for OMB Review; Comment Request

Upon Written Request, Copies Available From: Securities and Exchange Commission, Office of Investor Education and Advocacy, Washington, DC 20549-0213.

Extension:

Rule 206(4)-4; SEC File No. 270-304; OMB Control No. 3235-0345.

Notice is hereby given that, pursuant to the Paperwork Reduction Act of 1995 (44 U.S.C. 3501 et seq.), the Securities and Exchange Commission (“Commission”) has submitted to the Office of Management and Budget a request for extension of the previously approved collections of information discussed below.

The title for the collection of information is “Rule 206(4)-4” (17 CFR 275.206(4)-4) under the Investment Advisers Act of 1940 (15 U.S.C. 80b-1 et seq.). Rule 206(4)-4 requires advisers to disclose certain financial and disciplinary information to clients. The disclosure requirements in rule 206(4)-4 are designed so that a client will have information about an adviser's financial condition and disciplinary events that may be material to an evaluation of the adviser's integrity or ability to meet contractual commitments to clients. Respondents are registered investment advisers with certain disciplinary history or a financial condition that is reasonably likely to affect contractual commitments. We estimate that approximately 1,839 advisers are subject to this rule. The rule requires approximately 7.5 burden hours per year per adviser and amounts to approximately 13,793 total burden hours (7.5 × 1,839) for all advisers.

The disclosure requirements of rule 206(4)-4 do not require recordkeeping or record retention. The collection of information requirements under the rule are mandatory. Information subject to the disclosure requirements of rule 206(4)-4 is not submitted to the Commission. Accordingly, the disclosures pursuant to the rules are not kept confidential. An agency may not conduct or sponsor, and a person is not required to respond to, a collection of information unless it displays a currently valid control number.

Please direct general comments regarding the above information to the following persons: (i) Desk Officer for the Securities and Exchange Commission, Office of Management and Budget, Room 10102, New Executive Office Building, Washington, DC 20503 or e-mail to: Alexander_T._Hunt@omb.eop.gov; and (ii) R. Corey Booth, Director/Chief Information Officer, Securities and Exchange Commission, C/O Shirley Martinson, 6432 General Green Way, Alexandria, VA 22312; or send an e-mail to: PRA_Mailbox@sec.gov. Comments must be submitted to OMB within 30 days of this notice.

Dated: January 28, 2008.
Nancy M. Morris,
Secretary.

[FR Doc. E8-1840 Filed 1-31-08; 8:45 am]

BILLING CODE 8011-01-P